DEPARTMENT OF COMMERCE:

National Oceanic and Atmospheric Administration

[RTID 0648-XA621]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a two-day webinar meeting to consider actions affecting the Gulf of Mexico fisheries in the exclusive economic zone (EEZ).

DATES: The webinar will convene Monday, November 30 through Tuesday, December 1, 2020; 9 a.m. until 5:30 p.m. EST.

ADDRESSES: The meeting will take place via webinar; you may access the log-on information at www.gulfcouncil.org.

Council address: Gulf of Mexico Fishery Management Council, 4107 W Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Agenda

Monday, November 30, 2020; 9 a.m.—5:30 p.m.

The meeting will begin with Migratory Species Committee reviewing Highly Migratory Species (HMS) Amendment 14 to establish a new framework for the establishment of acceptable biological catch and annual catch limits for Atlantic Shark fisheries. Sustainable Fisheries Committee will receive an update on Aquaculture Opportunity areas; review Final Action Amendment Reef Fish 48/Red Drum 5: Status Determination Criteria and Optimum Yield for Reef Fish and Red Drum and discuss the treatment of dead discards by the Southeast Fisheries Science Center (SEFSC) in stock assessments. The Shrimp Committee will discuss pilot program to evaluate use of vessel navigation system to measure shrimping efforts and receive a Shrimp Advisory Panel meeting report.

Following lunch, the Reef Fish Committee will convene to review Reef Fish Landings, Draft Framework Action: Modification of the Gulf of Mexico Lane Snapper Annual Catch Limit, and, Draft Framework Action: Modification of the Vermilion Snapper and Gray Triggerfish Catch Levels. The Committee will receive a presentation on the Great Red Snapper Count; and, review the revised draft framework action to adjust State Recreational Red Snapper Catch Limits.

Tuesday, December 1, 2020; 9 a.m.—5:30 p.m.

The Ecosystem Committee will receive an update on Gulf of Mexico Fishery Ecosystem Plan and Southeast Regional efforts to build a foundation for the Fishery Ecosystem Plan.

Full Council will convene mid-morning (10:15 a.m.) with a Call to Order, Announcements, and Introductions; Adoption of Agenda and Approval of Minutes. The Council will hold public comment testimony beginning at approximately 10:30 a.m. until 2:30 p.m. for Final Action Amendment Reef Fish 48/Red Drum 5: Status Determination Criteria and Optimum Yield for Reef Fish and Red Drum, and open testimony on other fishery issues or concerns. There will be a one-hour lunch break from 12:30 p.m. to 1:30 p.m. Public comment may begin earlier than 10:30 a.m. EDT but will not conclude before that time. Persons wishing to give public testimony must follow the instructions on the Council website before the start of the public comment period at 10:30 a.m. EST.

Following public comment, the Council will receive committee reports from Sustainable Fisheries, Shrimp, Migratory Species, Reef Fish and Ecosystem Committees. The Council will then discuss any Other Business items.

—Meeting Adjourns

The meeting will be broadcast via webinar. You may register for the webinar by visiting www.gulfcouncil.org and clicking on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meeting. Actions will be restricted to those issues specifically listed in this notice and any issues arising after publication of this notice that require emergency action under Section 305(c) of the Magnuson-Stevens Act, provided that the public has been notified of the Council's intent to take final action to address the emergency.

Authority: 16 U.S.C. 1801 et seq.

Dated: November 9, 2020.
Diane M. DeJames-Daly,
Acting Deputy Director, Office of Sustainable Fisheries, National Marine Fisheries Service.

[FR Doc. 2020-25126 Filed 11-12-20; 8:45 am]

BILLING CODE 3510-22-P